DEPARTMENT OF COMMERCE

National Oceanic and Atmospheric Administration

RIN 0648-XX75

Gulf of Mexico Fishery Management Council; Public Meeting

AGENCY: National Marine Fisheries Service (NMFS), National Oceanic and Atmospheric Administration (NOAA), Commerce.

ACTION: Notice of a public meeting.

SUMMARY: The Gulf of Mexico Fishery Management Council will convene a meeting of the Ad Hoc Data Collection Advisory Panel.

DATES: The meeting will convene at 9 a.m. on Tuesday, August 10, 2010 and conclude by 4:30 p.m.

ADDRESSES: The meeting will be held at the Gulf of Mexico Fishery Management Council, 2203 North Lois Avenue, Suite 1100, Tampa, FL 33607; telephone: (813) 348-1630.

Council address: Gulf of Mexico Fishery Management Council, 2203 N. Lois Avenue, Suite 1100, Tampa, FL 33607.

FOR FURTHER INFORMATION CONTACT: Dr. John Froeschke, Fishery Biologist; Gulf of Mexico Fishery Management Council; telephone: (813) 348-1630 x235.

SUPPLEMENTARY INFORMATION: The Ad Hoc Data Collection Advisory Panel will meet to discuss the development of general criteria for electronic reporting systems to improve accuracy and timeliness of data collected in Gulf of Mexico fisheries. The Ad Hoc Data Collection Advisory Panel will review previous Council motions regarding electronic reporting for dealers and the for-hire fleet, and resources needed for full implementation. The Advisory Panel will also discuss perspectives on goals, objectives, and expectations for recreational data collection programs. Presentations will be made to review current data collection programs and evaluate the potential for use in Gulf fisheries. The Advisory Panel will review and discussing recommendations for recreational data collection systems for private anglers, including the need to balance timeliness and accuracy with cost and feasibility. The meeting will conclude with draft recommendations for development and possible implementation of electronic data collection systems for private anglers. The recommendations made by Ad Hoc Data Collection Advisory Panel will be presented to the Council at its August 16 - 20, 2010 meeting in Pensacola, FL.

Copies of the agenda and other related materials can be obtained by calling (813) 348-1630.

Although other non-emergency issues not on the agenda may come before the Advisory Panel for discussion, in accordance with the Magnuson-Stevens Fishery Conservation and Management Act, those issues may not be the subject of formal action during this meeting. Actions of the Advisory Panel will be restricted to those issues specifically identified in the agenda and any issues arising after publication of this notice that require emergency action under Section 305(c) of the Magnuson-Stevens Fishery Conservation and Management Act, provided the public has been notified of the Council's intent to take action to address the emergency.

Special Accommodations

The meeting is physically accessible to people with disabilities. Requests for sign language interpretation or other auxiliary aids should be directed to Tina O'Hern at the Council (see ADDRESSES) at least 5 working days prior to the meeting.

Dated: July 20, 2010.
Tracey L. Thompson,
Acting Director, Office of Sustainable Fisheries, National Marine Fisheries Service.

[FR Doc. 2010-18040 Filed 7-22-10; 8:45 am]

BILLING CODE 3510-22-S